NEIGHBORHOOD REINVESTMENT CORPORATION

Audit Committee Meeting of The Board of Directors; Sunshine Act Meeting

TIME AND DATE: 10:00 a.m., Monday, September 23, 2013.

PLACE: 999 North Capitol St. NE., Suite 900, Gramlich Boardroom, Washington, DC 20002.

STATUS: Open.

CONTACT PERSON FOR MORE INFORMATION: Erica Hall, Assistant Corporate Secretary, (202) 760-4104; ehall@nw.org.

AGENDA:

I. CALL TO ORDER

II. Executive Session With Internal Audit Director

III. Title Change of the Internal Audit Director

IV. Executive Session With Officers: Pending Litigation

V. FY14 Risk Assessment & Internal Audit Plan

VI. Internal Audit Reports With Management's Response

VII. Internal Audit Report Posting & FOIA Protocol

VIII. Internal Audit Status Reports

IX. MHA Compliance Update

X. NFMC/EHLP Compliance Update

XI. OHTS Watch List Review

XII. External Audit Reports—California & the Internal Revenue Service

XIII. Adjournment

Erica Hall,
Assistant Corporate Secretary.

[FR Doc. 2013-21853 Filed 9-4-13; 4:15 pm]

BILLING CODE 7570-02-P